DEPARTMENT OF HEALTH AND HUMAN SERVICES

Centers for Disease Control and Prevention

[60Day-02-64]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: A and B Reader Surveys—New—National Institute for Occupational Safety and Health (NIOSH), Centers for Disease Control and Prevention (CDC).

Since 1970, under the U.S. Code of Federal Regulations [42 CFR 37], screening chest radiographic examinations have been provided to underground miners at approximate five-year intervals. As part of the mandated Coal Workers' X-ray Surveillance Program (CWXSP), the NIOSH B Reader Program requires x-ray classification by physicians who have demonstrated proficiency in the International Labour Office (ILO) radiographic classification system. Competence in the ILO system is demonstrated by physicians who have completed a NIOSH approved educationalseminar (A Reader) or have passed the NIOSH B Reader certification examination (B Reader). The ILO has recently completed a revision of its radiographic classification system (ILO 2000) that will soon be published. As a result,modifications of the B Reader examinations and related training activities and materials will be needed. These revisions provide an opportunity to evaluate the current B Reader Program by surveying A and B Readers. The survey responses from these physicians will be used to develop a workshop agenda and contract specifications to improve the B Reader Program. There are no costs to respondents.

Respondents | Number of respondents | Number of responses/respondent | Avg. burden/response (in hrs.) | Total burden in hours
Physicians/B Reader | 531 | 1 | 10/60 | 89
Physicians/Former B Reader | 333 | 1 | 10/60 | 56
Physicians/A Reader | 2834 | 1 | 10/60 | 472
Total |  |  |  | 617

Dated: June 21, 2002.
Nancy E. Cheal,
Acting Associate Director for Policy, Planning and Evaluation, Centers for Disease Control and Prevention.

[FR Doc. 02-16303 Filed 6-27-02; 8:45 am]

BILLING CODE 4163-18-P